DEPARTMENT OF HEALTH AND HUMAN SERVICES

Centers for Disease Control and Prevention

[60-Day-19-19IJ; Docket No. CDC-2018-0118]

Proposed Data Collection Submitted for Public Comment and Recommendations

AGENCY: Centers for Disease Control and Prevention (CDC), Department of Health and Human Services (HHS)

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Improving Performance Measurement and Monitoring by CDC programs. The purpose of this project is to evaluate the progress of CDC partners that receive awards distributed via cooperative agreements from the Office of Grants Services (OGS)

DATES: CDC must receive written comments on or before April 8, 2019.

ADDRESSES: You may submit comments, identified by Docket No. CDC-2018-0118 by any of the following methods:

• Federal eRulemaking Portal: Regulations.gov. Follow the instructions for submitting comments.

• Mail: Jeffrey M. Zirger, Information Collection Review Office, Centers for Disease Control and Prevention, 1600 Clifton Road, NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Improving Performance Measurement and Monitoring by CDC programs—New—Office of Grant Services (OGS), Centers for Disease Control and Prevention (CDC).

Background and Brief Description

Each year, 75% of CDC funding goes to extramural organizations, including state and local partners, via contracts, grants, and, most commonly, cooperative agreements. A cooperative agreement is an award mechanism used when there will be substantial Federal programmatic involvement, meaning that the CDC program staff will collaborate or participate in project or program activities. These funds are distributed from the Office of Grant Services (OGS) to partners throughout the world to promote health, prevent disease, injury and disability and prepare for new health threats. OGS is responsible for the stewardship of these funds while providing excellent, professional services to our partners and stakeholders.

Currently, CDC uses the PPMR (OMB Control Number- 0920-1132, Expiration Date: 08/31/2019), a progress report form adapted from an information collection owned by the Administration for Children and Families (ACF). This tool may be used to collect information periodically from recipients of CDC funds regarding the progress made on CDC funded projects.

The Improving Performance Measurement and Monitoring by CDC Programs project will work with up to 25 CDC programs developing cooperative agreements to address the challenges they face with performance planning, measurement and monitoring. Each cooperative agreement will provide funding to an average of 35 local entities, for a total of up to 875 locally funded entities.

Through participation in this Project, CDC programs and recipients of cooperative agreement funds will: (1) Develop strong performance measurement systems and practices; (2) define and operationalize priority performance measures tailored to a specific cooperative agreement; and (3) establish common data collection and reporting expectations across all recipients for a specific cooperative agreement. The Project focuses on addressing these issues during the early stages of cooperative agreement development and implementation.

The Project proposes a generic clearance adapted from a previously approved generic clearance (OMB approval number: 0970-0490, expiration date 1/31/2020) owned by ACF. This ACF generic clearance replaces the information collection that is the basis of CDC's current PPMR. Project participants will customize a sample information collection to meet program-specific needs.

The information collected will enable the accurate, reliable, uniform and timely submission to CDC of each recipient's progress and performance measures. The information collected by the generic information collection is designed to align with, and support the goals outlined for each of the CDC recipients. Collection and reporting of the information will occur in an efficient, standardized, and user-friendly manner that will generate a variety of routine and customizable reports. The generic information collection will allow each recipient to summarize activities and progress towards meeting performance measures and goals over a specified time period specific to each award. CDC will also have the capacity to generate reports that describe activities across multiple recipients. In addition, CDC will use the information collected to respond to inquiries from HHS, Congress and other stakeholder inquiries about program activities and their impact. CDC requests OMB approval for three years. The total estimated burden is 35,000 hours. There is no cost to respondents other than their time.

Estimated Annualized Burden Hours
Type of respondents | Form name | Number of respondents | Number of responses per respondent per year | Average burden per response (in hours) | Total burden (in hours)
CDC Award Recipients | Performance Measuring and Monitoring Project Information Collection Tool | 875 | 1 | 40 | 35,000
Total |  |  |  |  | 35,000

Jeffrey M. Zirger,
Acting Lead, Information Collection Review Office, Office of Scientific Integrity, Office of Science, Centers for Disease Control and Prevention.

[FR Doc. 2019-01332 Filed 2-6-19; 8:45 am]

BILLING CODE 4163-18-P